DEPARTMENT OF VETERANS AFFAIRS

[OMB Control No. 2900-0759]

Agency Information Collection (VA National Rehabilitation Special Events, Event Registration Applications) Activities Under OMB Review

AGENCY: Office of National Programs and Special Events, Department of Veterans Affairs

ACTION: Notice.

SUMMARY: In compliance with the Paperwork Reduction Act (PRA) of 1995 (44 U.S.C. 3501-21), this notice announces that the Office of National Programs and Special Events, Department of Veterans Affairs, will submit the collection of information abstracted below to the Office of Management and Budget (OMB) for review and comment. The PRA submission describes the nature of the information collection and its expected cost and burden; it includes the actual data collection instrument.

DATES: Comments must be submitted on or before January 16, 2014.

ADDRESSES: Submit written comments on the collection of information through www.Regulations.gov or to VA's OMB Desk Officer, OMB Human Resources and Housing Branch, New Executive Office Building, Room 10235, Washington, DC 20503 (202) 395-7316. Please refer to “OMB Control No. 2900-0759” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0759”.

SUPPLEMENTARY INFORMATION:

Titles:

a. National Disabled Veterans Winter Sports Clinic Application, VA Form 0924a, c, d and VA Form 2900-0925 (SF).

b. Cross Country Ski Instructor Personnel Application, VA Form 0924n.

c. Downhill Skill Instructor Personnel Application, VA Form 0924s.

d. Volunteer Application, VA Form 0924t.

e. National Veterans Wheelchair Games Event Application, VA Form 0925b.

f. Voluntary Service Application, VA Form 0925d.

g. National Veteran Golden Age Games Application, VA Form 0926 a, b, d, e, g, h.

h. Voluntary Application, VA Form 0926j.

i. National Veterans TEE Tournament Event Application, VA Form 0927a, c, e.

j. Voluntary Service Application, VA Form 0927f.

k. National Veterans Summer sports Clinic Event Application, VA Form 0928a, c.

l. Volunteer Application, VA Form 0928h.

m. Surfing Personnel Application, VA Form 0928i.

n. Venue Personnel Application, VA Form 0928j.

o. National Veteran Creative Arts Festival Event Application, VA0929a, b, c, d, e, f, g, h.

Type of Review: Revision of an already approved collection.

Abstract: Veterans who are enrolled for VA health care may apply to participate in therapeutic rehabilitation programs such as the National Veterans Wheelchair Games, National Veterans Golden Age Games, National Veterans Creative Arts Festival, National Veterans TEE Tournament, National Disabled Veterans Winter Sports Clinic and the National Veterans Summer Sports Clinic. The data collected will be used to plan, distribute and utilize resources and to allocate clinical and administrative support to patient treatment services.

An agency may not conduct or sponsor, and a person is not required to respond to a collection of information unless it displays a currently valid OMB control number. The Federal Register Notice with a 60-day comment period soliciting comments on this collection of information was published on September 11, 2013, at pages 55777-55778.

Affected Public: Individuals or households.

Estimated Annual Burden:

a. VA Form 0924a, c, d and VA Form 2900-0925 (SF)—133.3 hours.

b. VA Form 0924n—2.8 hours.

c. VA Form 0924s—2.8 hours.

d. VA Form 0924t—1.25 hours.

e. VA Form 0925b—119 hours.

f. VA Form 0925d—167 hours.

g. VA Form 0926a, b, d, e, g, h—333 hours.

h. VA Form 0926j—67 hours.

i. VA Form 0927a, c, e—65 hours.

j. VA Form 0927f—8 hours.

k. VA Form 0928a, c—14 hours.

l. VA Form 0928h—2.58 hours.

m. VA Form 0928i—.50 hours.

n. VA Form 0928j—1.33 hours.

o. VA0929a, b, c, d, e, f, g, h—116.6 hours.

Estimated Average Burden per Respondent:

a. VA Form 0924a, c, d and VA Form 2900-0925 (SF)—20 minutes.

b. VA Form 0924n—5 minutes.

c. VA Form 0924s—5 minutes.

d. VA Form 0924t—5 minutes.

e. VA Form 0925b—10 minutes.

f. VA Form 0925d—5 minutes.

g. VA Form 0926a, b, d, e, g, h—20 minutes.

h. VA Form 0926j—5 minutes.

i. VA Form 0927a, c, e—13 minutes.

j. VA Form 0927f—5 minutes.

k. VA Form 0928a, c—7 minutes.

l. VA Form 0928h—5 minutes.

m. VA Form 0928i—5 minutes.

n. VA Form 0928j—5 minutes.

o. VA0929a, b, c, d, e, f, g, h—35 minutes.

Frequency of Response: On occasion.

Estimated Number of Respondents:

a. VA Form 0924a, c, d and VA Form 2900-0925 (SF)—400.

b. VA Form 0924n—25.

c. VA Form 0924s—200.

d. VA Form 0924t—15.

e. VA Form 0925b—715.

f. VA Form 0925d—2,000.

g. VA Form 0926a, b, d, e, g, h—1,000.

h. VA Form 0926j—800.

i. VA Form 0927a, c, e—300.

j. VA Form 0927f—100.

k. VA Form 0928a, c—120.

l. VA Form 0928h—31.

m. VA Form 0928i—6.

n. VA Form 0928j—16.

o. VA0929a, b, c, d, e, f, g, h—200.

Dated: December 11, 2013.
By direction of the Secretary.
Crystal Rennie,
VA Clearance Officer, Department of Veterans Affairs.

[FR Doc. 2013-29831 Filed 12-16-13; 8:45 am]

BILLING CODE 8320-01-P